Proclamation 7551 of May 1, 2002

Older Americans Month, 2002

By the President of the United States of America

A Proclamation

Our Nation's strength and vitality reside in our citizens. Each year in May, we honor and recognize older Americans for their important sacrifices and contributions to our society. Our seniors have cared for their families and communities, enhanced our economic prosperity, defended our Nation, and preserved and protected the Founders' vision. Their commitment to our future sets an inspiring example for all. And their resilience, fortitude, and experience provide us with important perspectives and insights as we face the challenges of a new era.

The theme of this year's observance, “America: A Community for All Ages,” reminds us that all citizens, regardless of age, are essential to successful and safe communities. The celebration also recognizes the extended role seniors play in our families, communities, and workplaces, as they live longer, healthier, and more productive lives. Drawing on their considerable knowledge and experience, older Americans mentor at-risk children, deliver meals to homebound seniors, and care for frail or chronically ill family members. Others embark on exciting new careers or engage in challenging themselves in athletic competitions. In addition, many seniors have answered my call to service by becoming involved in the Senior Corps domestic service program, which is administered by the Corporation for National and Community Service.

As we celebrate the lives of older Americans, we also renew our dedication to their well-being. My Administration strongly supports measures that protect the promise of retirement and healthcare security for seniors. We must modernize our Medicare and Medicaid programs so that seniors can access the best medicines and treatments. We must secure a good prescription drug benefit program for all our seniors. We must also continue to support medical research that is specifically targeted to the health problems of older Americans. By supporting flexible and innovative forms of long-term care, we can reduce the demands of caring for an elderly or disabled loved one. And we must strengthen financial security by protecting Social Security for today's retirees by encouraging private saving among all Americans, giving individuals more control over their investments.

This year's observance of Older Americans Month also marks the 30th anniversary of the Older Americans Act Nutrition Program, one of our most vital, community-based programs for seniors. Managed by the Administration on Aging and supported by the private sector and countless nonprofit organizations, the program has provided nearly 6 billion meals to senior centers and other group settings and to those who are homebound. It has also provided nutrition counseling and opportunities for health screening. For many elderly, this program has made a tremendous impact on their quality of life.

By maintaining and improving programs that assist older Americans, we help these important citizens enjoy longer, healthier, and more productive lives. During this month, I join all Americans in paying tribute to the achievements and contributions of our greatest generation and reaffirming our commitment to their well-being.

NOW, THEREFORE, I, GEORGE W. BUSH, President of the United States of America, by virtue of the authority vested in me by the Constitution and laws of the United States, do hereby proclaim May 2002 as Older Americans Month. I commend the national aging network of State, local, and tribal organizations, service and healthcare providers, caregivers, and millions of dedicated volunteers for your daily efforts on behalf of our senior citizens. I encourage all Americans to honor their elders, to seek opportunities to address their needs, and to work together to reinforce the bonds that unite families and communities. I also call upon all our citizens to publicly reaffirm our Nation's commitment to older Americans this month and throughout the year.

IN WITNESS WHEREOF, I have hereunto set my hand this first day of May, in the year of our Lord two thousand two, and of the Independence of the United States of America the two hundred and twenty-sixth.

B

[FR Doc. 02-11294

Filed 5-3-02; 8:45 am]

Billing code 3195-01-P